PRESIDIO TRUST

Notice of Extension of Public Comment Period for the Public Health Service Hospital Draft Supplemental Environmental Impact Statement

AGENCY: The Presidio Trust.

ACTION: Extension of comment period.

SUMMARY: The Presidio Trust is extending the comment period from October 12, 2004 to November 12, 2004 to enhance opportunities for public and agency participation in the National Environmental Policy Act process for the Public Health Service Hospital (PHSH) Draft Supplemental Environmental Impact Statement (Draft SEIS).

Oral comments may be made at the public meeting of the Presidio Trust Board of Directors commencing 6:30 p.m. on November 4, 2004, at the Officers' Club, 50 Moraga Avenue, Presidio of San Francisco, California. Written comments may be sent to the Presidio Trust via fax ((415) 561-2790), e-mail (phsh@presidiotrust.gov), or U.S Mail (NEPA Compliance Coordinator, The Presidio Trust, 34 Graham Street, PO Box 29052, San Francisco, CA 94129-0052). All comments must be postmarked by November 12, 2004. Please be aware that all written comments and information submitted to the Presidio Trust will be made available to the public, including, without limitation, any postal address, e-mail address, phone number or other information contained in each submission. The Draft SEIS may be viewed or downloaded from the Trust's Web site at http://www.presidio.gov, following the link from the Home page. A printed copy may be requested at no charge at (415) 561-5414 or phsh@presidiotrust.gov.

FOR FURTHER INFORMATION CONTACT: For more information regarding this and other planning efforts in the Presidio, visit http://www.presidio.gov. Specific questions about this notice may be directed to John Pelka, NEPA Compliance Coordinator for the Presidio Trust, at (415) 561-5365.

Dated: October 1, 2004.
Karen A. Cook,
General Counsel.

[FR Doc. 04-22559 Filed 10-6-04; 8:45 am]

BILLING CODE 4310-4R-P